SMALL BUSINESS ADMINISTRATION

[Declaration of Disaster #3256]

State of Oklahoma

Creek County and the contiguous counties of Lincoln, Okfuskee, Okmulgee, Osage, Pawnee, Payne, and Tulsa in the State of Oklahoma constitute a disaster area as a result of damages caused by severe thunderstorms, rain, and flooding that occurred May 5-8, 2000. Applications for loans for physical damage as a result of this disaster may be filed until the close of business on July 24, 2000 and for economic injury until the close of business on February 26, 2001 at the address listed below or other locally announced locations: U.S. Small Business Administration, Disaster Area 3 Office, 4400 Amon Carter Blvd., Suite 102, Ft. Worth, TX 76155.

The interest rates are:

| (Percent)
For Physical Damage:
Homeowners with credit available elsewhere | 7.375
Homeowners without credit available elsewhere | 3.687
Businesses with credit available elsewhere | 8.000
Businesses and non-profit organizations without credit available elsewhere | 4.000
Others (including non-profit organizations) with credit available elsewhere | 6.750
For Economic Injury:
Businesses and small agricultural cooperatives without credit available elsewhere | 4.000

The numbers assigned to this disaster are 325606 for physical damage and 9H4300 for economic injury.

(Catalog of Federal Domestic Assistance Program Nos. 59002 and 59008).
Dated: May 25, 2000.
Aida Alvarez,
Administrator.

[FR Doc. 00-14224 Filed 6-6-00; 8:45 am]

BILLING CODE 8025-01-P